NUCLEAR REGULATORY COMMISSION

10 CFR Part 72

[NRC-2015-0156; NRC-2015-0270]

RIN 3150-AJ63; 3150-AJ71

List of Approved Spent Fuel Storage Casks: Holtec International HI-STORM 100 Cask System; Certificate of Compliance No. 1014, Amendment No. 9, Revision 1, and Amendment No. 10; Corrections

AGENCY: Nuclear Regulatory Commission.

ACTION: Correcting amendments.

SUMMARY: The U.S. Nuclear Regulatory Commission (NRC) published a direct final rule on January 6, 2016, amending its spent fuel storage regulations by revising the Holtec International, Inc. (Holtec) HI-STORM 100 Cask System listing within the “List of approved spent fuel storage casks” to include Amendment No. 9, Revision 1, to Certificate of Compliance (CoC) No. 1014. The direct final rule was effective on March 21, 2016. On March 14, 2016, the NRC published a direct final rule again amending its spent fuel storage regulations by revising the Holtec HI-STORM 100 Cask System listing within the “List of approved spent fuel storage casks,” to include Amendment No. 10 to CoC No. 1014. That direct final rule was effective on May 31, 2016. The technical specifications (TS) for both the Holtec HI-STORM 100 Cask System, Amendments No. 9, Revision 1, and No. 10 included minor editorial and non-substantive errors. The purpose of this action is correct these errors.

DATES: The correction is effective August 31, 2017.

ADDRESSES: Please refer to Docket IDs NRC-2015-0156 and NRC-2015-0270 when contacting the NRC about the availability of information for this action. You may obtain publicly-available information related to this action using any of the following methods:

• Federal Rulemaking Web site: Go to http://www.regulations.gov and search for Docket IDs NRC-2015-0156 and NRC-2015-0270. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may access publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. For the convenience of the reader, instructions about obtaining materials referenced in this document are provided in the “Availability of Documents” section.

• NRC's PDR: You may examine and purchase copies of public documents at the NRC's PDR, Room O1-F21, One White Flint North, 11555 Rockville Pike, Rockville, Maryland 20852.

FOR FURTHER INFORMATION CONTACT: John-Chau Nguyen, Office of Nuclear Material Safety and Safeguards, U.S. Nuclear Regulatory Commission, Washington, DC 20555-0001; telephone: 301-415-0262; email: John-Chau.Nguyen@nrc.gov.

SUPPLEMENTARY INFORMATION: On June 23, 2017, the NRC received a request from Holtec to correct minor editorial and non-substantive errors in Appendix A, “Technical Specifications for the HI-STORM 100 Cask System,” of CoC No. 1014. In its letter, Holtec stated that it identified a typographical error that should be corrected. Specifically, Table 3-2 refers to Tables 3-3 and 3-4 for per cell decay heat load limits for the “MPC-68/68F/68FF/68M”, but Tables 3-3 and 3-4 omitted the MPC-68M.

The NRC previously reviewed and approved the use of model MPC-68M in Amendment No. 8 to CoC No. 1014 (which was superseded by Amendment No. 8 Revision 1). In Amendment No. 9, the NRC added Tables 3-3 and 3-4 and, in Table 3-2, added a reference to decay heat loads in Tables 3-3 and 3-4. The technical specifications for Amendment No, 9, Revision 1 (which superseded Amendment No. 9), and Amendment No. 10 include the same Tables 3-2, 3-3 and 3-4 as were in Amendment No. 9.

The reference in Appendix A, Table 3-2, refers to Table 3-3 and 3-4 for the per cell heat load limits for the `MPC-68/68F/68FF/68M.' However, Tables 3-3 and 3-4 only have rows for `MPC-68/68F/68FF,' and do not specifically include the MPC-68M. Since the decay heat load, whether uniform or regionalized, for all 68 cell Multi-purpose Canisters (MPCs) are identical, and the NRC previously reviewed and approved this heat load, it is evident that the omission of 68M in Tables 3-3 and 3-4 was an editorial error. Although this error is editorial, and has no impact on the loading of MPCs, it is still appropriate to correct the error in Amendment No. 9, Revision 1, and Amendment No. 10. Correcting this error would not change the substantive responsibilities of any person or entity regulated by the NRC. This document corrects these errors.

Rulemaking Procedure

Under the Administrative Procedure Act (5 U.S.C. 553(b)), an agency may waive the normal notice and comment requirements if it finds, for good cause, that they are impracticable, unnecessary, or contrary to the public interest. As authorized by 5 U.S.C. 553(b)(3)(B), the NRC finds good cause to waive notice and opportunity for comment on this correction because it will have no substantive impact and is of a minor and administrative nature dealing with a correction to a CFR section related only to management, organization, procedure, and practice. Specifically, this amendment is to correct minor editorial errors. This correction does not require action by any person or entity regulated by the NRC. Also, the substantive responsibilities of any person or entity regulated by the NRC are not changed. Accordingly, for the reasons stated, the NRC finds, pursuant to 5 U.S.C. 553(d)(3), that good cause exists to make this correction effective upon publication.

Availability of Documents

The documents identified in the following table are available to interested persons as indicated.

Document | Adams accession No.
Holtec's June 23, 2017, request for correction to CoC No. 1014 | ML17178A376
CoC No. 1014, Amendment No. 8 | ML12213A170
CoC No. 1014, Amendment No. 8, Rev. 1 | ML16041A233
CoC No. 1014, Amendment No. 9 | ML14071A188
CoC No. 1014, Amendment No. 9, Rev. 1 | ML16056A529
CoC No.-1014, Amendment No. 10 | ML16144A127

List of Subjects in 10 CFR Part 72

Administrative practice and procedure, Criminal penalties, Hazardous waste, Indians, Intergovernmental relations, Manpower training programs, Nuclear energy, Nuclear materials, Occupational safety and health, Penalties, Radiation protection, Reporting and recordkeeping requirements, Security measures, Spent fuel, Whistleblowing.

For the reasons set out in the preamble and under the authority of the Atomic Energy Act of 1954, as amended; the Energy Reorganization Act of 1974, as amended; the Nuclear Waste Policy Act of 1982, as amended; and 5 U.S.C. 552 and 553; the NRC is adopting the following amendments to 10 CFR part 72:

PART 72—LICENSING REQUIREMENTS FOR THE INDEPENDENT STORAGE OF SPENT NUCLEAR FUEL, HIGH-LEVEL RADIOACTIVE WASTE, AND REACTOR-RELATED GREATER THAN CLASS C WASTE

1. The authority citation for part 72 continues to read as follows:

Authority: Atomic Energy Act of 1954, secs. 51, 53, 57, 62, 63, 65, 69, 81, 161, 182, 183, 184, 186, 187, 189, 223, 234, 274 (42 U.S.C. 2071, 2073, 2077, 2092, 2093, 2095, 2099, 2111, 2201, 2210e, 2232, 2233, 2234, 2236, 2237, 2238, 2273, 2282, 2021); Energy Reorganization Act of 1974, secs. 201, 202, 206, 211 (42 U.S.C. 5841, 5842, 5846, 5851); National Environmental Policy Act of 1969 (42 U.S.C. 4332); Nuclear Waste Policy Act of 1982, secs. 117(a), 132, 133, 134, 135, 137, 141, 145(g), 148, 218(a) (42 U.S.C. 10137(a), 10152, 10153, 10154, 10155, 10157, 10161, 10165(g), 10168, 10198(a)); 44 U.S.C. 3504 note.

2. In § 72.214, Certificate of Compliance 1014 is revised to read as follows:

§ 72.214 List of approved spent fuel storage casks.

* * * * *

Certificate No.: 1014.

Initial Certificate Effective Date: May 31, 2000.

Amendment Number 1 Effective Date: July 15, 2002.

Amendment Number 2 Effective Date: June 7, 2005.

Amendment Number 3 Effective Date: May 29, 2007.

Amendment Number 4 Effective Date: January 8, 2008.

Amendment Number 5 Effective Date: July 14, 2008.

Amendment Number 6 Effective Date: August 17, 2009.

Amendment Number 7 Effective Date: December 28, 2009.

Amendment Number 8 Effective Date: May 2, 2012, as corrected on November 16, 2012 (ADAMS Accession No. ML12213A170); superseded by Amendment Number 8, Revision 1, Effective Date: February 16, 2016.

Amendment Number 8, Revision 1, Effective Date: February 16, 2016.

Amendment Number 9 Effective Date: March 11, 2014, superseded by Amendment Number 9, Revision 1, on March 21, 2016.

Amendment Number 9, Revision 1, Effective Date: March 21, 2016, as corrected (ADAMS Accession No. ML17236A451).

Amendment Number 10 Effective Date: May 31, 2016, as corrected (ADAMS Accession No. ML17236A452).

Safety Analysis Report (SAR) Submitted by: Holtec International.

SAR Title: Final Safety Analysis Report for the HI-STORM 100 Cask System.

Docket Number: 72-1014.

Certificate Expiration Date: May 31, 2020.

Model Number: HI-STORM 100.

* * * * *

Dated at Rockville, Maryland, this 25th day of August 2017.
For the Nuclear Regulatory Commission.
Pamela J. Shepherd-Vladimir,
Acting Chief, Rules, Announcements, and Directives Branch, Division of Administrative Services, Office of Administration.

[FR Doc. 2017-18456 Filed 8-30-17; 8:45 am]

BILLING CODE 7590-01-P